DEPARTMENT OF DEFENSE

GENERAL SERVICES ADMINISTRATION

NATIONAL AERONAUTICS AND SPACE ADMINISTRATION

[OMB Control No. 9000-0167; Docket 2013-0077; Sequence 5]

Federal Acquisition Regulation; Information Collection American Recovery and Reinvestment Act-Reporting Requirements—One-Time Reporting for First-Tier Subcontractors

AGENCY: Department of Defense (DOD), General Services Administration (GSA), and National Aeronautics and Space Administration (NASA).

ACTION: Notice of request for comments regarding an extension, with changes, to an existing OMB clearance.

SUMMARY: Under the provisions of the Paperwork Reduction Act, the Regulatory Secretariat will be submitting to the Office of Management and Budget (OMB) a request to review and approve an extension of a previously approved information collection requirement concerning the American Recovery and Reinvestment Act-Reporting Requirements—One Time Reporting for First-tier Subcontractors.

DATES: Submit comments on or before November 4, 2013.

ADDRESSES: Submit comments identified by Information Collection 9000-0167, American Recovery and Reinvestment Act-Reporting Requirements—One Time Reporting for First-tier Subcontractors, by any of the following methods:

• Regulations.gov: http://www.regulations.gov. Submit comments via the Federal eRulemaking portal by searching the OMB control number. Select the link “Submit a Comment” that corresponds with “Information Collection 9000-0167, American Recovery and Reinvestment Act-Reporting Requirements—One Time Reporting for First-tier Subcontractors”. Follow the instructions provided at the “Submit a Comment” screen. Please include your name, company name (if any), and “Information Collection 9000-0167, American Recovery and Reinvestment Act-Reporting Requirements—One Time Reporting for First-tier Subcontractors” on your attached document.

• Fax: 202-501-4067.

• Mail: General Services Administration, Regulatory Secretariat (MVCB), 1800 F Street NW., Washington, DC 20405. ATTN: Hada Flowers/IC 9000-0167, American Recovery and Reinvestment Act-Reporting Requirements—One Time Reporting for First-tier Subcontractors.

Instructions: Please submit comments only and cite Information Collection 9000-0167, American Recovery and Reinvestment Act-Reporting Requirements—One Time Reporting for First-tier Subcontractors, in all correspondence related to this collection. Submit comments regarding this burden estimate or any other aspect of this collection of information, including suggestions for reducing this burden to: FAR Desk Officer, OMB, Room 10102, NEOB, Washington, DC 20503. All comments received will be posted without change to http://www.regulations.gov, including any personal and/or business confidential information provided.

FOR FURTHER INFORMATION CONTACT: Mr. Curtis E. Glover, Sr., Procurement Analyst, Acquisition Policy Division, at telephone 202-501-1448 or via email to Curtis.glover@gsa.gov.

SUPPLEMENTARY INFORMATION:

A. Purpose

In accordance with Federal Acquisition Regulation (FAR) subpart 4.15 and the applicable clause at FAR 52.204-11, which implements the statutory requirements section 1512(c) of Division A of the American Recovery and Reinvestment Act of 2009 (Pub. L. 111-5) (Recovery Act), as a condition of receipt of funds, contractors that receive awards (or modifications to existing awards) funded, in whole or in part by the Recovery Act, shall include the one-time reporting elements for which the burden is imposed only on the first-tier subcontractor. The information shall include, but is not limited to:

a. Unique identifier (DUNS Number) for the subcontractor receiving the award and for the subcontractor's parent company, if the subcontractor has a parent company;

b. Subcontractor's physical address including street address, city, state, and country. Also include the nine-digit zip code and congressional district if applicable; and

c. Subcontract primary performance location including street address, city, state, and country. Also include the nine-digit zip code and congressional district if applicable.

B. Annual Reporting Burden

This information collection reflects a downward adjustment from what was published in the Federal Register on September 24, 2010, at 75 FR 58390, for the number of respondents required to comply with the requirements of FAR subpart 4.15 and the associated FAR clause at 52.204-11, American Recovery and Reinvestment Act—Reporting Requirements. This change is primarily a result of the lower amount of Recovery Act funds available for award.

In Fiscal Year (FY) 2010, the Federal Procurement Data System (FPDS) indicated that there were 33,041 Recovery Act prime contract awards, including modifications (21,767 awarded to small businesses), to 8896 unique vendors. In FY 2012, FPDS indicates that there were 6,312 Recovery Act prime contract awards, including modifications (3,156 awarded to small businesses), to 2,247 unique vendors. This change represents a decrease of approximately 75 percent from FY 2010. The number of first-tier subcontractors estimated to participate in Recovery Act awards is 4,494. This was derived by estimating two first-tier subcontractors for each prime contractor. It was determined that the FY 2012 FPDS data regarding the number of unique vendors combined with the assumption of two first-tier subcontractors for each prime contractor was a sufficient baseline for estimating the number of respondents (first-tier subcontractors) per year that would need to comply with the applicable clause associated with this information collection (4,494).

In discussions with subject matter experts, it was determined that an estimated number of responses per respondent of two, was sufficient to reflect the lower amount of Recovery Act funds available for award. Additionally, it is estimated that the burden hours per response is 15 minutes (.25), which reflects no change from what was published Federal Register on September 24, 2010, at 75 FR 58390. No public comments were received in prior years that have challenged the validity of the Government's estimate.

Respondents: 4,494.

Responses Per Respondent: 2.0.

Total Annual Reponses: 8,988.

Hours per Response: .25.

Total Burden Hours: 2,247.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat (MVCB), 1800 F Street NW., Washington, DC 20405, telephone 202-501-4755. Please cite OMB Control No. 9000-0167, American Recovery and Reinvestment Act—Reporting Requirements—One Time Reporting for First-tier Subcontractors, in all correspondence.

Dated: August 29, 2013.
Karlos Morgan,
Acting Director, Federal Acquisition Policy Division, Office of Government-wide Acquisition Policy, Office of Acquisition Policy, Office of Government-wide Policy.

[FR Doc. 2013-21529 Filed 9-4-13; 8:45 am]

BILLING CODE 6820-EP-P